DEPARTMENT OF THE INTERIOR

Bureau of Land Management

[AK-932-1410-HY; A-031764]

Public Land Order No. 7609; Partial Revocation of Public Land Order No. 1949; Alaska

AGENCY: Bureau of Land Management, Interior.

ACTION: Public land order.

SUMMARY: This order revokes a Public Land Order insofar as it affects approximately 74,248 acres of public lands withdrawn for military purposes for the Department of the Navy at Adak, Alaska. The lands are no longer needed for military purposes have been identified as excess to the needs of the Department of Defense pursuant to the Defense Base Closure and Realignment Act of 1990.

EFFECTIVE DATE: August 9, 2004.

FOR FURTHER INFORMATION CONTACT: Robbie J. Havens, Bureau of Land Management, Alaska State Office, 222 W. 7th Avenue, No. 13, Anchorage, Alaska 99513-7599, 907-271-5477.

SUPPLEMENTARY INFORMATION: All of the lands being retained by the Department of the Navy, and approximately 26,977 acres included in this revocation are within the Alaska Maritime National Wildlife Refuge. The remaining 47,271 acres have been conveyed out of Federal ownership pursuant to Public Law 107-239. This revocation is for record-clearing purposes.

Order

By virtue of the authority vested in the Secretary of the Interior by section 204 of the Federal Land Policy and Management Act of 1976, 43 U.S.C. 1714 (2000), it is ordered as follows:

Public Land Order No. 1949, which withdrew public lands for use by the Department of Navy for military purposes, is hereby revoked insofar as it affects the following described lands:

Seward Meridian

That part of Adak Island east of the Bay of Island and north of Latitude 51°47′15″ except for the following described lands (approximately 5,624 acres) retained by the Department of the Navy:

T. 95 S., R. 195 W., (unsurveyed),

Sec. 9, S½S½S½;

Secs. 10 and 11;

Sec. 12, W½E½E½, W½E½, and W½;

Secs. 14, 15, and 16;

Sec. 17, E½E½;

Sec. 20, E½E½, SE¼SW¼, and SW¼SE¼;

Secs. 21 and 22;

Sec. 23, W½;

Sec. 26, NW¼, that portion of W½E½ west of Andrew Lake, SE¼SE¼, and S½NE¼SE¼;

Sec. 27, N½;

Sec. 28, N½, SW¼, and W½SE¼;

Sec. 29, E½, E½NW¼, SW¼NW¼, N½SW¼, and N½S½SW¼;

Sec. 30, SE¼NE¼, NE¼SE¼, and N½SE¼SE¼;

Sec. 32, N½N½NE¼;

Sec. 33, N½NW¼NE¼ and N½N½NW¼.

The area described contains approximately 74,248 acres.

Dated: July 7, 2004.
Rebecca W. Watson,
Assistant Secretary—Land and Minerals Management.

[FR Doc. 04-18135 Filed 8-6-04; 8:45 am]

BILLING CODE 4310-JA-P